DEPARTMENT OF DEFENSE

Department of the Army

Piñon Canyon Maneuver Site Training and Operations Environmental Impact Statement

AGENCY: Department of the Army, DoD.

ACTION: Notice of availability.

SUMMARY: The Department of the Army announces the availability of the draft Environmental Impact Statement (EIS) for proposed training and operations at Piñon Canyon Maneuver Site (PCMS), CO. PCMS is the maneuver site for Fort Carson and is located near Trinidad, CO, approximately 150 miles southeast of Fort Carson. The draft EIS evaluates the environmental impacts associated with the proposed action, which is to conduct realistic, coordinated, large-scale training that integrates the ground and air resources of Fort Carson's mechanized, infantry, support, and combat aviation units.

In addition to the No Action Alternative, the draft EIS considers the two alternatives: Alternative 1A—would establish and use new brigade-level training intensity measures; update brigade training period equipment compositions and training methods relative to the 1980 Final EIS for the PCMS Training Land Acquisition; and enable the Stryker family of vehicles to train at PCMS. Alternative 1B—would include Alternative 1A and add enhanced readiness training using new training activity and infrastructure components at PCMS. Alternative 1B infrastructure components include airspace reclassification and drop zone development. The proposed action is composed of numerous components and the decision-maker may elect not to select every component. The proposed action does not include, nor would it require, expansion of PCMS.

ADDRESSES: Written comments should be sent to the Fort Carson NEPA Program Manager, Directorate of Public Works, Environmental Division, 1626 Evans Street, Building 1219, Fort Carson, CO 80913-4362, or call (719) 526-4666. Comments may also be submitted via email to: usarmy.carson.imcom-central.list.dpw-ed-nepa@mail.mil.

FOR FURTHER INFORMATION CONTACT: The Fort Carson Public Affairs Office at (719) 526-7525, Monday through Friday, 7:30 a.m. to 4:00 p.m. MST; or by email to: usarmy.carson.hqda-ocpa.list.pao-officer@mail.mil.

SUPPLEMENTARY INFORMATION: The draft EIS has been prepared to meet the requirements of the National Environmental Policy Act of 1969 (NEPA) to evaluate the environmental and socioeconomic impacts of implementing proposed actions at PCMS.

Soldiers stationed at Fort Carson need to train together, in an integrated manner, during large-scale collective training events. Integrated brigade combat team (BCT) level training is necessary at PCMS; without such training, Fort Carson Soldiers would be forced to train in their tasks in isolation, and not in the integrated manner in which they would fight. The draft EIS affords Fort Carson the opportunity to review its environmental program and the current state of the environment on PCMS, and decide on how best to structure training events for the recently reconfigured Armor and Infantry BCTs and the Stryker BCT.

Alternative 1A would establish a benchmark for brigade-level training intensity. The historic limitation of 4.7 months of brigade-level mechanized maneuver would remain in effect to allow for land rest and recovery. This alternative would enable the ¼ Stryker BCT to conduct training at PCMS using the Stryker family of vehicles.

Alternative 1B includes Alternative 1A and new training activities and training infrastructure changes at PCMS. Training activities include non-explosive aviation gunnery, flare, electronic jamming systems, laser target sighting, tactical demolition, unmanned and unarmed aerial reconnaissance systems, and light unmanned ground vehicle training. In terms of training infrastructure, PCMS would establish two new drop-zones and, for use during periods when training activity poses a hazard to aircraft, restricted airspace directly over PCMS. The restricted airspace would be established up to 10,000 feet above mean sea level, and activated as required by training scenarios. The decision-maker may select all of these elements or only some.

Environmental impacts associated with the implementation of the proposed action could include significant impacts to soils as a result of maneuvering with tracked and wheeled vehicles on fragile soils; vegetation and wildlife as a result of large maneuver corridors, which could potentially result in a conversion or net loss of habitat, depending upon frequency of use and recovery time; and water resources as a result of increased sedimentation in nearby impaired waters. Impacts in the areas of airspace, cultural resources, facilities and utilities, hazardous materials, hazardous waste, and toxic substances, socioeconomics, and traffic and transportation were all determined to be less than significant. The draft EIS identifies potential mitigation measures to reduce adverse impacts.

Soldier training would be entirely within the existing boundaries of PCMS, except for limited air and convoy operations. The proposed action does not include, nor would it require, any expansion of PCMS. No additional land will be sought or acquired as a result of this action.

Under the No Action Alternative, the Army would continue current mission activities and training operations, which includes authorized brigade-level training, as well as range use and training land management.

Cooperating Agencies: The Federal Aviation Administration is a cooperating agency on the Draft EIS as the proposed action includes airspace reclassification.

Public Meeting and Public Comments: A public meeting on the Draft EIS will be held at PCMS. Information on the date and time for the public meeting will be published locally.

Federally recognized Tribes, federal, state, and local agencies, organizations, and the public are invited to be involved in the process for the preparation of this EIS by participating in public meetings and/or submitting written comments on the Draft EIS to (see ADDRESSES) no later than 45 days from the publication of the Notice of Availability in the Federal Register.

The Draft EIS is available at http://www.carson.army.mil/DPW/nepa.html.

Brenda S. Bowen,
Army Federal Register Liaison Officer.

[FR Doc. 2014-25786 Filed 10-30-14; 8:45 am]

BILLING CODE 3710-08-P